SECURITIES AND EXCHANGE COMMISSION

[Release No. 34-48934; File No. SR-PCX-2003-54]

Self Regulatory Organizations; Pacific Exchange, Inc.; Order Granting Accelerated Approval to Proposed Rule Change To Amend PCXE Rule 7.37(d) Relating To Routing Orders Away

December 16, 2003.

On September 25, 2003, the Pacific Exchange, Inc. (“PCX” or “Exchange”) filed with the Securities and Exchange Commission (“Commission”), pursuant to section 19(b)(1) of the Securities Exchange Act of 1934 (“Act”) ¹ and Rule 19b-4 thereunder,² a proposed rule change to amend PCXE Rule 7.37(d) to clarify the process by which orders are routed outside the Archipelago Exchange Facility (“ArcaEx”) to away market centers or market participants. The proposed rule change was published for comment in the Federal Register on November 19, 2003.³ The Commission received no comment letters on the proposal.

¹ 15 U.S.C. 78s(b)(1).

² 17 CFR 240.19b-4.

³ See Securities Exchange Act Release No. 48768 (November 10, 2003), 68 FR 65338.

The Commission finds that the proposed rule change is consistent with the requirements of the Act and the rules and regulations thereunder applicable to a national securities exchange and, particularly, section 6(b)(5) of the Act.⁴ The Commission believes that the PCX's clarification of the process by which orders are routed outside ArcaEx to away market centers or market participants under PCXE Rule 7.37(d) would foster cooperation and coordination with persons engaged in regulating, clearing, settling and facilitating transactions in securities.

⁴ 15 U.S.C. 78f(b)(5).

Furthermore, the Commission finds good cause for approving the proposed rule change prior to the thirtieth day after notice of the publication in the Federal Register. The proposal does not seek to change the process by which ArcaEx routes orders to away market centers or market participants under PCXE Rule 7.37(d), but rather to clarify the existing process. The Commission believes that acceleration of this proposal would assist ArcaEx participants to better understand how ArcaEx may route their orders to away market centers or market participants under PCXE Rule 7.37(d) in a more timely manner. Accordingly, the Commission finds good cause, consistent with section 19(b)(2) of the Act,⁵ to approve the proposed rule change on an accelerated basis.⁶

⁵ 15 U.S.C. 78s(b)(2).

⁶ In approving this proposed rule change, the Commission has considered its impact on efficiency, competition, and capital formation. 15 U.S.C. 78c(f).

It is therefore ordered, pursuant to section 19(b)(2) of the Act,⁷ that the proposed rule change (File No. SR-PCX-2003-54) is approved on an accelerated basis.

⁷ 15 U.S.C. 78s(b)(2).

For the Commission, by the Division of Market Regulation, pursuant to delegated authority.⁸
⁸ 17 CFR 200.30-3(a)(12).
Margaret H. McFarland,
Deputy Secretary.

[FR Doc. 03-31642 Filed 12-23-03; 8:45 am]

BILLING CODE 8010-01-P